NATIONAL SCIENCE FOUNDATION

Notice of Permit Modification Received Under the Antarctic Conservation Act of 1978

AGENCY: National Science Foundation.

ACTION: Notice of Permit Modification Request.

SUMMARY: The National Science Foundation (NSF) is required to publish a notice of requests to modify permits issued to conduct activities regulated under the Antarctic Conservation Act of 1978. This is the required notice of a requested permit modification.

DATES: Interested parties are invited to submit written data, comments, or views with respect to this permit application by November 3, 2016. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2015-010) to Lockheed Martin Corporation (Lockheed Martin) on October 31, 2014 . Under the issued permit, Lockheed Martin, as the contractor proving operational support for the United States Antarctic Program (USAP), is responsible for waste management activities for the USAP. On August 16, 2016, the contract for USAP operational support transferred from Lockheed Martin to Leidos Innovations Group (Leidos), 7400 South Tucson Way, Centennial, CO 80112. This permit modification proposes to transfer the waste management permit (ACA 2015-010) from Lockheed Martin to Leidos, at their request, such that Leidos would become the new permit holder. All activities regulated under the permit and all other permit conditions remain the same.

DATES: October 1, 2016 to September 30, 2019.

Nadene G. Kennedy,
Polar Coordination Specialist, Division of Polar Programs.

[FR Doc. 2016-23900 Filed 10-3-16; 8:45 am]

BILLING CODE 7555-01-P